DEPARTMENT OF ENERGY

Federal Energy Regulatory Commission

[Docket No. EL01-50-000]

KeySpan-Ravenswood, Inc. v. New York Independent System Operator, Inc.; Notice of Complaint

March 9, 2001.

Take notice that on March 8, 2001, KeySpan-Ravenswood, Inc., tendered for filing proposed changes and clarifications to the New York Independent System Operator, Inc.'s Market Administration and Control Area Services Tariff (Volume No. 2) to adopt the netting of station power in the wholesale power market administered by the New York Independent System Operator.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 28, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 28, 2001. Comments and protests may be filed electronically via the internet in lieu of paper. See, 18 CFR 385.2001(a)(1)(iii) and the instructions on the Commission's web site at http://www.ferc.fed.us/efi/doorbell.htm.

David P. Boergers,
Secretary.

[FR Doc. 01-6418 Filed 3-14-01; 8:45 am]

BILLING CODE 6717-01-M